BUREAU OF CONSUMER FINANCIAL PROTECTION

Consumer Advisory Board Subcommittee Meetings

AGENCY: Bureau of Consumer Financial Protection.

ACTION: Notice of public subcommittee meetings.

SUMMARY: This notice sets forth the announcement of two public subcommittee meetings of the Consumer Advisory Board (CAB or Board) of the Bureau of Consumer Financial Protection (Bureau). The notice also describes the functions of the Board its subcommittees.

DATES: The Consumer Advisory Board Mortgages and Small Business Lending Markets subcommittee meeting will take place on Thursday, May 10, 2018 from approximately 1:00 p.m. to 2:00 p.m. eastern standard time via conference call. The Consumer Advisory Board Card, Payment, and Deposits Markets Subcommittee meeting will take place on Tuesday, May 22, 2018 from approximately 3:00 p.m. to 4:30 p.m. eastern standard time via conference call.

Access: The subcommittee meetings will be conducted via conference call and are open to the general public. Members of the public will receive the agenda and dial-in information when they RSVP.

FOR FURTHER INFORMATION CONTACT: Crystal Dully, Outreach and Engagement Associate, 202-435-9588, CFPB_CABandCouncilsEvents@cfpb.gov, Advisory Board and Councils Office, External Affairs, 1700 G Street NW, Washington, DC 20552. If you require this document in an alternative electronic format, please contact CFPB_Accessibility@cfpb.gov.

SUPPLEMENTARY INFORMATION:

I. Background

Section 3 of the Charter of the Consumer Advisory Board states that: The purpose of the Board is outlined in section 1014(a) of the Dodd-Frank Act, which states that the Board shall “advise and consult with the Bureau in the exercise of its functions under the Federal consumer financial laws” and “provide information on emerging practices in the consumer financial products or services industry, including regional trends, concerns, and other relevant information.”

To carry out the Board's purpose, the scope of its activities shall include providing information, analysis, and recommendations to the Bureau. The Board will generally serve as a vehicle for market intelligence and expertise for the Bureau. Its objectives will include identifying and assessing the impact on consumers and other market participants of new, emerging, and changing products, practices, or services.

Typically, the subcommittees meet during the in person advisory group meetings as well as in between via conference calls. Each subcommittee has an advisory group member who serves as the chair and staff from the CFPB's Advisory Board and Councils Office to assist the chair in conducting the meeting.

II. Agenda

The CAB Mortgages and Small Business Lending Markets subcommittee will discuss two of the Bureau's Requests for Information (RFI) related to the Call for Evidence initiative by Acting Director Mulvaney. The CAB Card, Payment, and Deposits Markets subcommittee will discuss will lessons learned on designing financial products and features to meet the needs of specific targeted vulnerable populations. Additionally, the subcommittee will also discuss one of the Bureau's Request for Information (RFI) related to the Call for Evidence initiative by Acting Director Mulvaney.

Written comments will be accepted from interested members of the public and should be sent to CFPB_CABandCouncilsEvents@cfpb.gov, a minimum of seven (7) days in advance of the meetings. The comments will be provided to the CAB members for consideration. Persons who need a reasonable accommodation to participate should contact CFPB_504Request@cfpb.gov, 202-435-9EEO, 1-855-233-0362, or 202-435-9742 (TTY) at least ten business days prior to the meeting or event to request assistance. The request must identify the date, time, location, and title of the meeting or event, the nature of the assistance requested, and contact information for the requester. The Bureau will strive to provide, but cannot guarantee that accommodation will be provided for late requests.

Individuals who wish to join the Consumer Advisory Board Mortgages and Small Business Lending Markets Subcommittee meeting must RSVP via this link https://goo.gl/ojr1Yj by noon, May 9, 2018. Individuals who wish to join the Consumer Advisory Board Card, Payment, and Deposits Markets Subcommittee meeting must RSVP to https://goo.gl/ojr1Yj by noon, May 21, 2018. Members of the public must RSVP by the due date and must include “CAB Mortgages and Small Business Lending Markets” or “CAB Card, Payment, and Deposits Markets” in the subject line of the RSVP.

III. Availability

A summary of these meetings will be available after the meeting on the Bureau's website www.consumerfinance.gov.

Dated: April 24, 2018.
Kirsten Sutton,
Chief of Staff, Bureau of Consumer Financial Protection.

[FR Doc. 2018-09077 Filed 4-27-18; 8:45 am]

BILLING CODE 4810-AM-P